DEPARTMENT OF DEFENSE

Department of the Navy

Notice of Extension of Comment Period for the Draft Environmental Impact Statement for Military Training Activities at the Naval Weapons Systems Training Facility Boardman, OR

AGENCY: Department of the Navy, DoD.

ACTION: Notice.

SUMMARY: A notice of availability was published by the U.S. Environmental Protection Agency (EPA) in the Federal Register (77 FR 55213) on September 7, 2012 for Draft Environmental Impact Statement (EIS) for Military Training Activities at the Naval Weapons Systems Training Facility. The public comment period ended on November 6, 2012. This notice confirms a 30 day extension of the public comment period until December 6, 2012 as announced by EPA in the Federal Register on November 9, 2012.

FOR FURTHER INFORMATION CONTACT: Mrs. Amy Burt, Naval Facilities Engineering Command Northwest, 1101 Tautog Circle Suite 203, Silverdale, Washington, 98315-1101, Attn: NWSTF Boardman Project Manager; or http://www.NWSTFBoardmanEIS.com.

SUPPLEMENTARY INFORMATION: The public comment period on the NWSTF Boardman EIS will be extended until December 6, 2012. Comments may be submitted in writing to Naval Facilities Engineering Command Northwest, Attention: Mrs. Amy Burt, NWSTF Boardman EIS Project Manager, 1101 Tautog Circle Suite 203, Silverdale, Washington, 98315-1101. In addition, comments may be submitted online at http://www.NWSTFBoardmanEIS.com during the comment period. All written comments must be postmarked by December 6, 2012, to ensure they become part of the official record. All written comments will be addressed in the Final EIS.

Copies of the Draft EIS are available for public review at the following libraries:

1. Multnomah County Library—Central Library, 801 Southwest 10th Avenue, Portland, Oregon.

2. Oregon Trail Library District—Boardman Library, 200 South Main Street, Boardman, Oregon.

3. Oregon Trail Library District—Heppner Branch, 444 North Main Street, Heppner, Oregon.

4. Salem Public Library—Central Branch, 585 Liberty Street Southeast, Salem, Oregon.

5. Salem Public Library—West Salem Branch, 395 Glen Creek Road Northwest, Salem, Oregon.

6. Stafford Hansell Government Center, 915 Southeast Columbia Drive, Hermiston, Oregon.

Copies of the Draft EIS are available for electronic viewing at http://www.NWSTFBoardmanEIS.com.

Dated: November 8, 2012.
S.F. Thompson,
Captain, Office of the Judge Advocate General, U.S. Navy, Alternate Federal Register Liaison Officer.

[FR Doc. 2012-27764 Filed 11-14-12; 8:45 am]

BILLING CODE 3810-FF-P